DEPARTMENT OF HEALTH AND HUMAN SERVICES

Centers for Disease Control and Prevention

[60Day-03-05]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Microbial Contamination of Produce: A Field Study of the Lower Rio Grande Valley, OMB No. 0920-0487—Extension—National Center for Environmental Health (NCEH), Centers for Disease Control and Prevention (CDC).

Background

Foodborne diseases are common; an estimated 6-33 million cases occur each year in the United States. Although most of these infections cause mild illness, severe infections and serious complications do occur. The public health challenges of foodborne diseases are changing rapidly. In recent years, new and emerging foodborne pathogens have been described and changes in food production have led to new food safety concerns. Foodborne diseases have been associated with many different foods, including recent outbreaks linked to contaminated fresh fruits (e.g., cantaloupe, strawberries) and vegetables (e.g., leaf lettuce, alfalfa sprouts).

NCEH proposes to conduct a study to determine what specific produce processing practices are associated with fecal contamination of fruits and vegetables. Handling and processing methods used in the produce industry may increase the risk that these foods will become contaminated with fecal matter. The study will describe the chain of processing-shipping practices for five vulnerable produce groups (leafy greens, leafy herbs, green onions, cabbage, melon/cantaloupe). Critical practices where contamination with foodborne pathogens is likely will be identified by measuring the microbial quality of produce at each step during processing. Sources of fecal contamination will be determined by measuring the microbial quality of process water, measuring fecal indicator organisms on hand rinses from packing shed laborers, and conducting sanitary surveys of sources of human and animal feces in and around the processing areas. CDC, National Center for Environmental Health is requesting a 3-year clearance. There is no cost to respondents.

Respondents | No. of respondents | No. of responses/ respondent | Avg. burden/response (in hours) | Total burden (in hours)
Packing Facility Recruiting visit | 20 | 1 | 30/60 | 10
Packing Shed Manager Interview (in person) | 20 | 2 | 30/60 | 20
Hand Rinse Sample Collection | 100 | 2 | 30/60 | 100
Total |  |  |  | 130

Dated: October 16, 2002.
John Moore,
Acting Associate Director, Policy, Planning and Evaluation, Centers for Disease Control and Prevention.

[FR Doc. 02-27198 Filed 10-24-02; 8:45 am]

BILLING CODE 4163-18-P